Title 3—

The President

Proclamation 7552 of May 2, 2002

National Charter Schools Week, 2002

By the President of the United States of America

A Proclamation

Over a decade ago in Minnesota, a handful of educators envisioned a new kind of educational institution that would provide an alternative for children trapped in under-performing public schools. Their philosophy for a “charter school” was straightforward and powerful: provide parents the option to send their children to innovative public schools that combine flexibility and autonomy with a guarantee to raise student achievement.

Today, we recognize the important successes of the charter school experiment. Nearly 2,400 charter schools now exist across our Nation. Thanks to bipartisan support at the local, State, and Federal level, more than a half-million children have attended these public schools and obtained a better education.

In reading, math, science, special education, early childhood education, and other areas, charter schools have implemented innovative programs that produce results. Charter school principals and teachers have the freedom to develop classroom techniques that meet their students' unique needs, and parents appreciate the ability to have direct input into their children's educational progress. Charter school administrators are accountable to students, parents, and community leaders, and they know that if their school fails to meet expectations, it must either improve or close.

The effects of charter schools extend beyond the schoolhouse walls. Wherever charter schools are clustered together, we see traditional schools reevaluate their methods and programs. At this basic level, charter schools help stimulate community debate and inspire educational excellence.

Accountability, flexibility, expanded choices, and a focus on methods that work are all important elements in the landmark, bipartisan, No Child Left Behind Act of 2001, which I signed into law in January. This legislation authorizes a new program, the Charter School Facility Demonstration Project, which provides important seed funding for charter school infrastructure and construction needs. It also continues the Charter School Grants program that supports planning and development of new public charter schools. Together these programs provide valuable tools to American education. Now we must work together to implement this new legislation in all our communities so no child is left behind.

NOW, THEREFORE, I, GEORGE W. BUSH, President of the United States of America, by virtue of the authority vested in me by the Constitution and laws of the United States, do hereby proclaim April 28 through May 4, 2002, as National Charter Schools Week. I call on parents of charter school children to share their success stories with others so that all Americans may learn more about charter schools and their important work. I commend the States with charter schools.

IN WITNESS WHEREOF, I have hereunto set my hand this second day of May, in the year of our Lord two thousand two, and of the Independence of the United States of America the two hundred and twenty-sixth.

B

[FR Doc. 02-11486

Filed 5-6-02; 8:45 am]

Billing code 3195-01-P